DEPARTMENT OF DEFENSE

Office of the Secretary

DoD Dependent Schools; Eligibility Requirements

AGENCY: DoD, DoDDS.

ACTION: Notice.

On September 8, 2000, the Assistant Secretary of Defense for Force Management Policy (ASD(FMP)), signed a memorandum to the Interim Director, Department of Defense Education Activity (DoDEA), changing DoD Directive 1342.12 “Eligibility Requirements for Education of Minor Departments in Overseas Areas,” dated July 8, 1982.

The change designates for enrollment on a space-available, tuition-free basis the class of dependents of NATO forces assigned to the NATO site at Larissa, Greece, excluding the host nation. This class waiver will be effective for school years 2000-2001 and 2001-2002, to the extent space is available, in order to allow sufficient time for the NATO command to explore other education options. This waiver will permit the enrollment of approximately 30 dependents of NATO forces. No Department of Defense (DoD) funds may be used to hire additional English as a Second Language instructors. Either the NATO forces or the NATO families must ensure the students are prepared for English language instruction.

SUPPLEMENTARY INFORMATION: DoD Directive 1342.13, “Eligibility Requirements for Education of Minor Dependents in Overseas Areas,” dated July 2, 1982, is published at 32 CFR Pt. 71, and copies are available at cost from the National Technical Information Service, 5285 Port Royal Road, Springfield, VA 22161, or the DoDEA web site: www.odedodea.edu. Questions can be addressed to DoDEA Attention: Ms. Gail Terres, 4040 North Fairfax Drive, Arlington, VA 22203-1635.

Dated: October 12, 2000.
L.M. Bynum,
Alternate OSD Federal Register Liaison Officer, Department of Defense.

[FR Doc. 00-26675 Filed 10-17-00; 8:45 am]

BILLING CODE 5001-10-M